DEPARTMENT of ENERGY

Federal Energy Regulatory Commission

Combined Notice of Filings

Take notice that the Commission has received the following Natural Gas Pipeline Rate and Refund Report filings:

Filings Instituting Proceedings

Docket Numbers: RP12-1093-001.

Applicants: Northern Border Pipeline Company.

Description: Petition of Northern Border Pipeline Company to Amend Language in the Settlement Agreement, et al. under RP12-1093.

Filed Date: 10/20/17.

Accession Number: 20171020-5150.

Comments Due: 5 p.m. ET 10/26/17.

Docket Numbers: RP18-46-000.

Applicants: Equitrans, L.P.

Description: § 4(d) Rate Filing: Non-Conforming Negotiated Rate Service Agreements—PTWP Name Change to be effective 7/12/2017.

Filed Date: 10/20/17.

Accession Number: 20171020-5033.

Comments Due: 5 p.m. ET 11/1/17.

Docket Numbers: RP18-47-000.

Applicants: Equitrans, L.P.

Description: Compliance filing Notice Regarding Non-Jurisdictional Gathering Facilities (Auburn CS PEG173/4).

Filed Date: 10/20/17.

Accession Number: 20171020-5043.

Comments Due: 5 p.m. ET 11/1/17.

Docket Numbers: RP18-48-000.

Applicants: Natural Gas Pipeline Company of America.

Description: § 4(d) Rate Filing: DTE Energy Trading Negotiated Rate Agreement to be effective 11/1/2017.

Filed Date: 10/20/17.

Accession Number: 20171020-5054.

Comments Due: 5 p.m. ET 11/1/17.

Docket Numbers: RP18-49-000.

Applicants: Gulf Crossing Pipeline Company LLC.

Description: § 4(d) Rate Filing: Amendment to Neg Rate Agmt (BP 1884-2) to be effective 5/23/2017.

Filed Date: 10/20/17.

Accession Number: 20171020-5055.

Comments Due: 5 p.m. ET 11/1/17.

Docket Numbers: RP18-50-000.

Applicants: BKV Chelsea, LLC,BKV Operating, LLC,Carrizo (Marcellus) LLC,Reliance Marcellus II, LLC.

Description: Joint Petition of BKV Chelsea, LLC, et al. for Limited Transaction Specific Waivers of Commission Policies, Capacity Release Regulations, and Related Pipeline Tariff Provisions under RP18-50.

Filed Date: 10/20/17.

Accession Number: 20171020-5238.

Comments Due: 5 p.m. ET 10/27/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated October 24, 2017.
Nathaniel J. Davis, Sr.,
Deputy Secretary.

[FR Doc. 2017-23777 Filed 10-31-17; 8:45 am]

BILLING CODE 6717-01-P